DEPARTMENT OF HEALTH AND HUMAN SERVICES

Centers for Disease Control and Prevention

Comparisons of Community with Facility Management of Malaria and Pneumonia in Rural Tanzania; Notice of Intent To Fund Single Eligibility Award

A. Purpose

The Centers for Disease Control and Prevention (CDC) announces the intent to fund fiscal year (FY) 2005 funds for a cooperative agreement program to establish the effectiveness of combination antimalarial therapy policies within the context of intense malaria transmission and to develop an evidence-based comparison between two approaches to managing febrile illness in rural sub-Sahara Africa. Specifically, the two approaches of interest are an enhanced facility-based management approach and a community- or household-based approach. The aim is to generate detailed data enabling international public health organizations to make recommendations to national governments based on quality scientific evidence. The Catalog of Federal Domestic Assistance number for this program is 93.283.

B. Eligible Applicant

Assistance will be provided only to the Ifakara Health Research and Development Centre, Ifakara, Tanzania. No other applications are solicited.

The Ifakara Health Research and Development Centre (IHRDC) is the only institution located in Tanzania that possesses the requisite scientific and technical expertise, the infrastructure capacity and experience in conducting the described research topics and which has collaborative relationships with the Ministry of Health to ensure that all aspects of this agreement can be fulfilled. Because of its work in malaria for more than 15 years, the IHDRC is an internationally respected research institution.

Investigators at IHDRC have a detailed understanding of the epidemiologic patterns and geographic distribution of malaria infection and transmission in their area, are actively engaged in using state-of-the-art techniques for evaluating antimicrobial drug resistance, and have needed and proven expertise in socio-behavioral and economic research related to febrile illness. In addition, the IHDRC has the following required experience and capabilities:

• Maintains a DSS covering over 100,000 individuals, allowing for measurement of public health impact of malaria treatment policies.

• Proven experience in carrying out large-scale community-based public health interventions, to conduct malaria research, and to correctly diagnose drug resistant malaria infections in its laboratories and field activities.

• Located in an area of very intense malaria transmission in a country that is has adopted a national malaria treatment policy of ACT while remaining actively engaged in investigating future treatment options.

• Maintains a close relationship with the National Malaria Control Program of the Ministry of Health and as well as close relationship with other relevant research and public health entities in the country and region.

• Actively engaged in research activities that are directly related to the objectives of this RFA with proven experience and capacity.

C. Funding

Approximately $1,000,000 is available in FY 2004 to fund this award. It is expected that the award will begin on or before September 1, 2005, and will be made for a 12-month budget period within a project period of up to three years. Funding estimates may change.

D. Where to Obtain Additional Information

For general comments or questions about this announcement, contact: Technical Information Management, CDC Procurement and Grants Office, 2920 Brandywine Road, Atlanta, GA 30341-4146, Telephone: 770-488-2700.

For technical questions about this program, contact: Dr. Trudy Messmer, Scientific Review Administrator, 1600 Clifton Rd, MS C-19, Atlanta, GA 30333, Telephone: 404-639-3770, e-mail: TMessmer@cdc.gov.

Dated: March 3, 2005.
William P. Nichols,
Director, Procurement and Grants Office, Centers for Disease Control and Prevention.

[FR Doc. 05-4552 Filed 3-8-05; 8:45 am]

BILLING CODE 4163-18-P